DEPARTMENT OF THE INTERIOR

Fish and Wildlife Service

50 CFR Part 17

[Docket No. FWS-R2-ES-2021-0103; FXES111303WOLF0-223-FF02ENEH00]

RIN 1018-BE52

Endangered and Threatened Wildlife and Plants; Proposed Revision to the Regulations for the Nonessential Experimental Population of the Mexican Wolf

AGENCY: Fish and Wildlife Service, Interior.

ACTION: Proposed rule; notice of availability of a final supplemental environmental impact statement and a draft record of decision.

SUMMARY: We, the U.S. Fish and Wildlife Service (Service), announce the availability of the final supplemental environmental impact statement (FSEIS) on the proposed revisions to the regulations for the nonessential experimental population designation of the Mexican wolf and our draft record of decision, under the National Environmental Policy Act of 1969, as amended. Our intended action is to revise the regulations established in our 2015 final rule under section 10(j) of the Endangered Species Act of 1973, as amended, for the nonessential experimental population of the Mexican wolf. In the FSEIS, we analyzed the environmental consequences of three alternatives, including the proposed action and no action alternative, for our proposed rule. The action would be implemented through a final rule.

DATES: The Service will issue the record of decision (ROD) no earlier than 30 days after the publication date of this document announcing the availability of the FSEIS.

ADDRESSES: Document availability: The FSEIS and draft ROD are available electronically on https://www.regulations.gov in Docket No. FWS-R2-ES-2021-0103. The FSEIS will also be available for public inspection, by appointment, during normal business hours (8 a.m. to 4:30 p.m.) at the New Mexico Ecological Services Field Office, 2105 Osuna Road NE, Albuquerque, NM 87113.

FOR FURTHER INFORMATION CONTACT: Brady McGee, Mexican Wolf Recovery Coordinator, U.S. Fish and Wildlife Service, New Mexico Ecological Services Field Office, 2105 Osuna Road, NE, Albuquerque, NM 87113; by telephone at 505-761-4748; or by facsimile 505-761-2542. Individuals in the United States who are deaf, deafblind, hard of hearing, or have a speech disability may dial 711 (TTY, TDD, or TeleBraille) to access telecommunications relay services. Individuals outside the United States should use the relay services offered within their country to make international calls to the point-of-contact in the United States. You may also visit the Mexican Wolf Recovery Program's website at https://www.fws.gov/program/mexican-wolf for information about our proposed revision to the experimental population designation for the Mexican wolf.

SUPPLEMENTARY INFORMATION:

Reviewing Documents

With this Federal Register document, we announce the availability of the final supplemental environmental impact statement (FSEIS) and our draft record of decision (ROD) for the proposed revision to the regulations for the nonessential experimental population of the Mexican wolf (Canis lupus baileyi). We developed the FSEIS and our draft ROD in compliance with the agency decision-making requirements of the National Environmental Policy Act of 1969, as amended (42 U.S.C. 4321 et seq.). We have described all alternatives in detail, and we have evaluated them in our FSEIS. Our draft ROD is based on our review of the alternatives and their environmental consequences as described in our FSEIS. You may obtain a copy of the FSEIS and draft ROD as described above in ADDRESSES.

Background

On April 15, 2020 (85 FR 20967), we published a notice of intent to prepare a supplemental environmental impact statement in conjunction with a proposed rule to revise the existing nonessential experimental designation of the Mexican wolf in the Mexican Wolf Experimental Population Area (MWEPA) in Arizona and New Mexico under section 10(j) of the Endangered Species Act of 1973, as amended (“10(j) rule”). The revised rule and supplemental environmental impact statement have been developed in response to a court-ordered remand by the District Court of Arizona of our 2015 10(j) rule to revise the nonessential experimental population designation and management of Mexican wolves in the MWEPA. In the scoping notice, we explained that we would address the issues on remand in a revised rule by establishing population and genetic objectives for the MWEPA that support the long-term conservation and recovery of the Mexican wolf and by ensuring our take provisions support the genetic health of the population, in addition to making a new essentiality determination (85 FR 20967, April 15, 2020, p. 20969).

On October 29, 2021 (86 FR 59953), we published the proposed rule and draft supplemental environmental impact statement (DSEIS) for a 90-day public comment period ending January 27, 2022, and we announced three public information sessions and two public hearings. The DSEIS analyzed three alternatives, including the proposed action, a second alternative, and the no action alternative. These alternatives evaluated a revised population objective, a new genetic objective, and the temporary restriction of three take provisions on land use, biological resources, economic activity associated with livestock production and big game hunting, human health and public safety, and environmental justice.

Next Steps

We developed our FSEIS after assessing and considering all comments on the DSEIS and proposed rule both individually and collectively. Our responses to the substantive comments that we received on the DSEIS are provided as an appendix to the FSEIS. After full consideration of all information and comments received on the proposed rule and DSEIS, we will base the final rule on the best available information.

Authors

The primary authors of this document are the staff members of the New Mexico Ecological Services Field Office (see FOR FURTHER INFORMATION CONTACT).

Authority

The authority for this action is the Endangered Species Act of 1973 (16 U.S.C. 1531 et seq.) and the National Environmental Policy Act of 1969 (42 U.S.C. 4321 et seq.).

Signing Authority

The Director, U.S. Fish and Wildlife Service, approved this document and authorized the undersigned to sign and submit the document to the Office of the Federal Register for publication electronically as an official document of the U.S. Fish and Wildlife Service. Martha Williams, Director, approved this document on May 10, 2022, for publication.

Madonna Baucum,
Regulations and Policy Chief, Division of Policy, Risk Management, and Analytics of the Joint Administrative Operations, U.S. Fish and Wildlife Service.

[FR Doc. 2022-10382 Filed 5-12-22; 8:45 am]

BILLING CODE 4333-15-P